DEPARTMENT OF COMMERCE

National Oceanic and Atmospheric Administration

Proposed Information Collection; Comment Request; Comprehensive Regional Decision-Support Framework To Prioritize Sites for Coral Reef Conservation in the U.S. Virgin Islands: Survey of Professional SCUBA Divers

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 14, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Theresa L. Goedeke, 301-713-3028 or Theresa.Goedeke@noaa.gov.

SUPPLEMENTARY INFORMATION:

I. Abstract

This request is for a new data collection to benefit marine resource managers in the U.S. Virgin Islands (USVI). The National Ocean Service (NOS) proposes to collect data on the resource usage patterns, knowledge and values of the professional SCUBA diving community relative to coral reefs in the USVI. Data are needed to support conservation and management goals as defined under the Coral Reef Conservation Act (CRCA) (16 U.S.C. 6401 et seq). The purpose of the CRCA is to advance conservation of coral reef ecosystems in the U.S. and Territories. Specifically, the Act requires the federal government to produce sound scientific information on the condition of coral reef ecosystems and threats to them, so that reefs may be better preserved, sustained and restored. The present data collection is one component of a larger project to produce a science-based decision support tool that will be used by resource managers to prioritize coral reefs in the USVI for the purposes of management under the CRCA.

Researchers propose to collect information from the professional SCUBA diving community in the USVI, who are an important stakeholder group with much knowledge about this marine ecosystem. Information will be gathered from this community because of their experience diving on focal coral reefs and reliance on such ecosystems for their livelihood. The survey will ascertain which coral reef areas are needed/used most by persons in the professional SCUBA diving community. It will gather divers' opinions on the status and health of these coral reefs. Finally, the survey will collect information on the demographic characteristics of professional SCUBA diving community, along with the values they have for local coral reefs.

Data gathered will be used to identify, rank and describe key characteristics of the coral reefs that are most important to the professional SCUBA diving community in the USVI, as well as their perception of reef status and resilience. The survey data will become one of several layers of information combined in a larger effort to objectively map the important reefs in the USVI. Knowledge of the locations of priority reefs, together with an assessment of the threats to those reefs, will provide information to prioritize management actions.

II. Method of Collection

The data collection will take place over a four month period and will be comprised of a questionnaire as well as a mapping exercise to be completed by the respondent. The data will be collected electronically using an online survey instrument and associated mapping tool.

III. Data

OMB Control Number: None.

Form Number: None.

Type of Review: Regular submission (request for a new information collection).

Affected Public: Individuals or households.

Estimated Number of Respondents: 250.

Estimated Time per Response: 25 minutes.

Estimated Total Annual Burden Hours: 104.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 6, 2014.
Gwellnar Banks,
Management Analyst, Office of the Chief Information Officer.

[FR Doc. 2014-03010 Filed 2-11-14; 8:45 am]

BILLING CODE 3510-JE-P